DEPARTMENT OF COMMERCE

National Oceanic and Atmospheric Administration

[I.D. 022505C]

North Pacific Fishery Management Council; Notice of Public Meeting

AGENCY: National Marine Fisheries Service (NMFS), National Oceanic and Atmospheric Administration (NOAA), Commerce.

ACTION: Meetings of the North Pacific Fishery management Council Gulf Rationalization Community Committee.

SUMMARY: The North Pacific Fishery Management Council (Council) Scallop Plan Team will meet at the Clarion Suites, in Anchorage, AK.

DATES: March 3, 2005, 9 am - 5 pm, Glacier Room.

ADDRESSES: Clarion Suites, 325 W 8th Avenue, Anchorage, AK 99501.

Council address: North Pacific Fishery Management Council, 605 W. 4th Ave., Suite 306, Anchorage, AK 99501-2252.

FOR FURTHER INFORMATION CONTACT: Diana Stram, Council staff, Phone: 907-271-2809.

SUPPLEMENTARY INFORMATION: The Committee will review and revise Plan Team terms of reference, review the status of Statewide Scallop stocks. Compile Stock Assessment Fishery Evaluation report. Discuss research needs, review revised Fishery Management Plan, observer program, update on Council action with respect to approval of Amendment 10, discussion of Fishermen's Cooperative Marketing Act, scallop cooperative and scallop fishery.

Special Accommodations

These meetings are physically accessible to people with disabilities. Requests for sign language interpretation or other auxiliary aids should be directed to Gail Bendixen at 907-271-2809 at least 7 working days prior to the meeting date.

Dated: February 28, 2005.
Alan D. Risenhoover,
Office of Sustainable Fisheries, National Marine Fisheries Service.

[FR Doc. E5-894 Filed 3-2-05; 8:45 am]

BILLING CODE 3510-22-S